DEPARTMENT OF COMMERCE

International Trade Administration

[A-570-806]

Notice of Final Results of Administrative Review: Silicon Metal from the People's Republic of China

AGENCY: Import Administration, International Trade Administration, U.S. Department of Commerce

SUMMARY: SUMMARY: On March 10, 2003, the Department of Commerce (the Department) published the preliminary results of review of the antidumping duty order on silicon metal from the People's Republic of China (PRC) (68 FR 11369). The review covers one manufacturer, Groupstars Chemical Co., Ltd. (Shandong) (Groupstars), and its exports of the subject merchandise to the United States during the period June 1, 2001 through May 31, 2002.

We gave interested parties an opportunity to comment on the preliminary results of review. We received no comments from any of the parties.

EFFECTIVE DATE: June 13, 2003

FOR FURTHER INFORMATION CONTACT: Matthew Renkey, Office of AD/CVD Enforcement VII, Import Administration, International Trade Administration, U.S. Department of Commerce, 14th Street and Constitution Avenue, N.W., Washington D.C. 20230; telephone: (202) 482-2312.

SUPPLEMENTARY INFORMATION:

Background

The Department published in the Federal Register an antidumping duty order on silicon metal from the PRC on June 10, 1991. See Antidumping Duty Order: Silicon Metal from the People's Republic of China, 56 FR 26649 (June 10, 1991). On June 21, 2002, Groupstars, a Chinese exporter of silicon metal, submitted a timely request for the Department to conduct an administrative review for the period June 1, 2001 through May 31, 2002. On July 18, 2002, the Department initiated an administrative review covering the period June 1, 2001 through May 31, 2002. See Initiation of Antidumping and Countervailing Duty Administrative Reviews and Requests for Revocation in Part, 67 FR 48435 (July 24, 2002).

On August 21, 2002, the Department sent Groupstars the standard non-market-economy antidumping questionnaire. The deadline for responding to the questionnaire was September 27, 2002. As of October 18, 2002, the Department still had not received a response from Groupstars, or a letter requesting an extension of the deadline. See Memorandum to File through Maureen Flannery, Program Manager, from Matthew Renkey, Analyst: Status of Questionnaire Response: Silicon Metal from the People's Republic of China (PRC), Administrative Review 6/1/01-5/31/02, dated October 18, 2002. On October 30, 2002, the Department received a letter from counsel for Groupstars informing us that they were withdrawing from representation of Groupstars because they were also unsuccessful in eliciting a response from the company regarding the substantive nature of this case.

On March 10, 2003, the Department published the preliminary results of review of the antidumping duty order on silicon metal from the PRC (68 FR 11369). The Department has now completed this review in accordance with Section 751 of the Tariff Act of 1930, as amended (the Act).

Scope of the Antidumping Duty Order

The product covered by the order consists of silicon metal containing at least 96.00 but less than 99.99 percent of silicon by weight, and silicon metal with a higher aluminum content containing between 89 and 96 percent silicon by weight.

The merchandise is currently classifiable under item numbers 2804.69.10 and 2804.69.50 of the Harmonized Tariff Schedule of the United States (HTSUS) as a chemical product, but is commonly referred to as a metal. Semiconductor-grade silicon (silicon metal containing by weight not less than 99.99 percent of silicon and provided for in subheading 2804.61.00 of the HTSUS) is not subject to this order. This order is not limited to silicon metal used only as an alloy agent or in the chemical industry. Although the HTSUS subheading is provided for convenience and customs purposes, the written description of the merchandise is dispositive.

Final Results of Review

We gave interested parties an opportunity to comment on the preliminary results. The Department received no comments. Accordingly, we continue to find that a margin of 139.49 percent should be assigned to Groupstars for the period June 1, 2001 through May 31, 2002. The Department will issue assessment instructions directly to the U.S. Bureau of Customs and Border Protection (BCBP).

Duty Assessment and Cash Deposit Requirement

The Department shall determine, and BCBP shall assess, antidumping duties on all appropriate entries. The Department will issue appropriate assessment instructions directly to BCBP within 15 days of publication of the final results of review. Furthermore, the following deposit rates will be effective with respect to all shipments of silicon metal from the PRC entered, or withdrawn from warehouse, for consumption on or after the publication date of the final results of this review, as provided for by section 751(a)(2)(C) of the Act: (1) the cash deposit rate for the reviewed company listed above will be the rate for that firm established in the final results of this review; (2) for companies previously found to be eligible for a separate rate and for which no review was requested, the cash deposit rate will be the rate established in the most recent review of that company; (3) for all other PRC exporters of subject merchandise, the cash deposit rate will be the PRC-wide rate of 139.49 percent; and (4) the cash deposit rate for non-PRC exporters of subject merchandise from the PRC will be the rate applicable to the PRC supplier of that exporter. These deposit requirements, when imposed, shall remain in effect until publication of the final results of the next administrative review.

Notification of Interested Parties

This notice serves as a final reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(3)(A) and 777(i)(1) of the Act.

Dated: June 6, 2003.
Joseph A. Spetrini,
Acting Assistant Secretary for Import Administration.

[FR Doc. 03-14979 Filed 6-12-03; 8:45 am]

BILLING CODE 3510-DS-S